DEPARTMENT OF DEFENSE

Department of the Army; Army Corps of Engineers

Grant of Exclusive Licenses

AGENCY: U.S. Army Corps of Engineers, DOD.

ACTION: Notice.

SUMMARY: In accordance with 37 CFR 404.7(b)(1)(i), announcement is made of a prospective exclusive license in each of the following countries covered by European Patent Office application number 94926514.4, title “Concrete Armor Unit to Protect Coastal and Hydraulic Structures and Shorelines.” The countries are: Austria, Belgium, Denmark, Germany, Greece, Ireland, Luxembourg, Netherlands, Sweden, and Switzerland.

DATES: Written objections must be filed not later than August 14, 2001.

ADDRESSES: U.S. Army Waterways Experiment Station, 3909 Halls Ferry Road, Vicksburg, MS 39180-6199, ATTN: CEWES-OC.

FOR FURTHER INFORMATION CONTACT: Mr. Phil Stewart (601) 634-4113, e-mailstewarp@exl.wes.army.mil.

SUPPLEMENTARY INFORMATION: Jeffrey A. Melby and George F. Turk invented The Concrete Armor Unit. Rights to the patent application identified above has been assigned to the United States of America as represented by the Secretary of the Army. The United States of America as represented by the Secretary of the Army intends to grant an exclusive license for all fields of use, in the manufacture, use, and sale in the territories and possessions, including territorial waters of Russia to W.F. Baird and Associates, a Delaware corporation with principal offices at 2981 Yarmouth Greenway, Madison, Wisconsin 53711. Pursuant to 37 CFR 404.7(b)(1)(I), any interested party may file a written objection to this prospective exclusive license agreement.

Richard L. Frenette,
Counsel.

[FR Doc. 01-15189 Filed 6-14-01; 8:45 am]

BILLING CODE 3710-92-M